DEPARTMENT OF HOMELAND SECURITY

Coast Guard

33 CFR Part 165

[Docket No. USCG-2019-0620]

Safety Zone; Leukemia and Lymphoma Light the Night Fireworks

AGENCY: Coast Guard, DHS.

ACTION: Notice of enforcement of regulation.

SUMMARY: The Coast Guard will enforce regulations for the Leukemia and Lymphoma Light the Night Fireworks display safety zone on October 12, 2019. Our regulation for firework display safety zones within the Captain of the Port Zone Columbia River identifies the regulated area for this event on the Willamette River in Portland, OR, and the regulations that will be enforced. These regulations prohibit persons and vessels from entry into, transit through, mooring, or anchoring within the regulated area unless authorized by the Captain of the Port Sector Columbia River or their designated representative.

DATES: The regulations in 33 CFR 165.1315 will be enforced for the Leukemia and Lymphoma Light the Night Fireworks display safety zone listed in the table in § 165.1315(a) from 7 p.m. to 9:30 p.m. on October 12, 2019.

FOR FURTHER INFORMATION CONTACT: If you have questions about this notice of enforcement, call or email LCDR Dixon Whitley, Waterways Management Division, MSU Portland, Oregon, Coast Guard; telephone 503-240-9319, email MSUPDXWWM@uscg.mil.

SUPPLEMENTARY INFORMATION: The Coast Guard will enforce the safety zone for the Leukemia and Lymphoma Light the Night Fireworks display in Portland, OR detailed in 33 CFR 165.1315 from 7 p.m. to 9:30 p.m. on October 12, 2019. This action is necessary to ensure the safety of life on the Columbia River during the fireworks display. Under the provisions of 33 CFR 165.1315 and subpart C of part 165, no person or vessel may enter the safety zone, consisting of all waters of the Columbia River within a 450 yard radius of the launch site located at 45°30′23″ N, 122°40′4″ W, without permission from the Captain of the Port Sector Columbia River or their designated representative. Persons or vessels wishing to enter the safety zone may request permission to do so from the on-scene Captain of the Port representative via VHF Channel 16 or 13. The Coast Guard may be assisted by other Federal, State, or local enforcement agencies in enforcing this regulation.

Dated: July 23, 2019.
J.C. Smith,
Captain, U.S. Coast Guard, Captain of the Port Columbia River.

[FR Doc. 2019-15997 Filed 7-26-19; 8:45 am]

BILLING CODE 9110-04-P